DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's Web site (http://www.treasury.gov/ofac).

Notice of OFAC Actions

On September 23, 2016, OFAC determined that the property and interests in property of the following persons are blocked under the relevant sanctions authority listed below.

Individuals

1. IMPERIAL CASTRO, Eliseo (a.k.a. “CHEYO ANTRAX”), Mexico; DOB 17 Jan 1984; POB Culiacan, Sinaloa, Mexico; citizen Mexico; Gender Male; R.F.C. IECE840117RCA (Mexico); C.U.R.P. IECE840117HSLMSL04 (Mexico) (individual) [SDNTK]. Designated pursuant to section 805(b)(2) of the Kingpin Act, 21 U.S.C. 1904(b)(2), for materially assisting in, or providing financial or technological support for or to, or providing goods or services in support of, the international narcotics trafficking activities of the SINALOA CARTEL and/or Ismael ZAMBADA GARCIA; and/or designated pursuant to section 805(b)(3) of the Kingpin Act, 21 U.S.C. 1904(b)(3), for being directed by, or acting for or on behalf of, the SINALOA CARTEL and/or Ismael ZAMBADA GARCIA.

2. LIRA SOTELO, Alfonso (a.k.a. BAHENA MARTINEZ, Rogelio; a.k.a. “EL ATLANTE”), Mexico; DOB 24 May 1970; alt. DOB 02 Dec 1970; POB Mexico City, D.F., Mexico; alt. POB Ixtlahuatenco Pedro Ascencio Alquisiras, Guerrero, Mexico; citizen Mexico; Gender Male; Passport G02447186 (Mexico) issued 01 Apr 2010 expires 01 Apr 2016; R.F.C. LISA7005242Y8 (Mexico); National ID No. 25887069638 (Mexico); C.U.R.P. LISA700524HDFRTL03 (Mexico) (individual) [SDNTK]. Designated pursuant to section 805(b)(2) of the Kingpin Act, 21 U.S.C. 1904(b)(2), for materially assisting in, or providing financial or technological support for or to, or providing goods or services in support of, the international narcotics trafficking activities of the SINALOA CARTEL, and/or Ismael ZAMBADA GARCIA, and/or Eliseo IMPERIAL CASTRO; and/or designated pursuant to section 805(b)(3) of the Kingpin Act, 21 U.S.C. 1904(b)(3), for being directed by, or acting for or on behalf of, the SINALOA CARTEL, and/or Ismael ZAMBADA GARCIA, and/or Eliseo IMPERIAL CASTRO.

3. LIRA SOTELO, Javier (a.k.a. “EL CARNICERO”; a.k.a. “EL HANNIBAL”), Mexico; DOB 16 Jul 1965; POB Mexico City, D.F., Mexico; citizen Mexico; Gender Male; C.U.R.P. LISJ650716HDFRTV04 (Mexico); R.F.C. LISJ650716SD0 (Mexico) (individual) [SDNTK]. Designated pursuant to section 805(b)(2) of the Kingpin Act, 21 U.S.C. 1904(b)(2), for materially assisting in, or providing financial or technological support for or to, or providing goods or services in support of, the international narcotics trafficking activities of Ismael ZAMBADA GARCIA, and/or Eliseo IMPERIAL CASTRO, and/or Alfonso LIRA SOTELO; and/or designated pursuant to section 805(b)(3) of the Kingpin Act, 21 U.S.C. 1904(b)(3), for being directed by, or acting for or on behalf of, Ismael ZAMBADA GARCIA, and/or Eliseo IMPERIAL CASTRO, and/or Alfonso LIRA SOTELO.

4. LIRA SOTELO, Alma Delia, Mexico; DOB 14 Apr 1972; POB Mexico City, D.F., Mexico; citizen Mexico; Gender Female; C.U.R.P. LISA720414MDFRTL08 (Mexico) (individual) [SDNTK]. Designated pursuant to section 805(b)(2) of the Kingpin Act, 21 U.S.C. 1904(b)(2), for materially assisting in, or providing financial or technological support for or to, or providing goods or services in support of, the international narcotics trafficking activities of Alfonso LIRA SOTELO; and/or designated pursuant to section 805(b)(3) of the Kingpin Act, 21 U.S.C. 1904(b)(3), for being directed by, or acting for or on behalf of Alfonso LIRA SOTELO and/or the SINALOA CARTEL.

Dated: November 29, 2017.
John E. Smith,
Director, Office of Foreign Assets Control.

[FR Doc. 2017-26022 Filed 12-1-17; 8:45 am]

BILLING CODE 4810-AL-P